DEPARTMENT OF COMMERCE

National Oceanic and Atmospheric Administration

RIN 0648-XF143

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Habitat Advisory Panel to consider actions affecting New England fisheries in the exclusive economic zone (EEZ). Recommendations from this group will be brought to the full Council for formal consideration and action, if appropriate.

DATES: This meeting will be held on Monday, January 30, 2017 at 9:30 a.m.

ADDRESSES: The meeting will be held at the Four Points by Sheraton, 1 Audubon Road, Wakefield, MA 01880; phone: (781) 245-9300.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The advisory panel will review the alternatives and analyses in the Council's Deep-Sea Coral Amendment and provide feedback. They will specifically review (1) Management alternatives: Are the alternatives clearly specified, i.e. is clarification required? Are any boundary modifications recommended? What are the potential implementation/operational issues? Does the advisory panel have any preferred alternatives? (2) Impacts analysis completed to date: Are there questions about the approaches used or the results? Are there additional factors or issues that should be considered? (3) Further amendment development: Does the advisory panel have suggestions about how to conduct outreach with the fishing industry? With other groups? Are there specific actions that would make a public workshop to refine the coral zone boundaries more effective? Other business may be discussed as needed.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: January 6, 2017.
Tracey L. Thompson,
Acting Deputy Director, Office of Sustainable Fisheries, National Marine Fisheries Service.

[FR Doc. 2017-00419 Filed 1-10-17; 8:45 am]

BILLING CODE 3510-22-P